DEPARTMENT OF THE INTERIOR

Fish and Wildlife Service

50 CFR Part 20

Migratory Bird Hunting

CFR Correction

In Title 50 of the Code of Federal Regulations, parts 18 to 199, revised as of October 1, 2005, on page 36, § 20.21 is corrected by reinstating paragraphs (j)(2) and (3) to read as follows:

§ 20.21 What hunting methods are illegal?

* * * * *

(j) * * *

(2) Each approved shot type must contain less than 1 percent residual lead (see § 20.134).

(3) This shot type restriction applies to the taking of ducks, geese (including brant), swans, coots (Fulica americana), and any other species that make up aggregate bag limits with these migratory game birds during concurrent seasons in areas described in § 20.108 as nontoxic shot zones.

[FR Doc. 06-55526 Filed 8-21-06; 8:45 am]

BILLING CODE 1505-01-D